DEPARTMENT OF JUSTICE

Notice of Lodging of Settlement Agreement; Comprehensive Environmental Response, Compensation, and Liability Act

Notice is hereby given that, for a period of 30 days, the United States will receive public comments on a proposed Consent Decree in United States v. Dravo Corporation (Civil Action No. 8:04-CV-356), which was lodged with the United States District Court for the District of Nebraska on June 16, 2008. The Complaint alleges that Dravo is civilly liable for violations under Section 107(a) of the Comprehensive Environmental Response, Compensation, and Liability Act of 1980, as amended (“CERCLA”), 42 U.S.C. 9607(a). The Complaint seeks the recovery of response costs incurred and to be incurred by the United States as a result of releases or threatened releases of hazardous substances at or from the Hastings Naval Ammunition Depot Subsite of the Hastings Ground Water Contamination Site, located in Hastings, Adams County, Nebraska.

Under the settlement, Dravo Corporation has agreed to pay to the United States one million one hundred sixty-one thousand dollars ($1,161,000.00) for the recovery of these response costs.

Comments should be addressed to the Assistant Attorney General, Environment and Natural Resources Division, and may be submitted to: P.O. Box 7611, U.S. Department of Justice, Washington, DC 20044-7611, or via e-mail topubcomment-ees.enrd@usdoj.gov, and should refer to United States v. Dravo Corporation, D.J. Ref. 90-11-2-1260/2.

The Consent Decree may be examined at the Office of the United States Attorney. District of Nebraska, 1620 Dodge Street, Suite 1400, Omaha, NE 68102-1506. During the public comment period the Dravo Consent Decree may also be examined on the following Department of Justice Web site: http://www.usdoj.gov/enrd/Consent_Decrees.html. A copy of the Dravo Consent Decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury.

Maureen M. Katz,
Assistant Section Chief, Environmental Enforcement Section, Environment and Natural Resources Division.

[FR Doc. E8-14041 Filed 6-20-08; 8:45 am]

BILLING CODE 4410-15-P